DEPARTMENT OF AGRICULTURE

Office of the Secretary

Roadless Area Conservation National Advisory Committee

AGENCY: Office of the Secretary, USDA.

ACTION: Notice; request for nominations.

SUMMARY: The current terms of the members of the Roadless Area Conservation National Advisory Committee (RACNAC) will expire in September 2007. The Secretary invites nominations of persons to serve on this committee for a two year period, to run from September 2007 to September 2009. Nominations should describe and document the proposed member's qualifications for membership.

DATES: Nomination packages must include a signed and dated copy of form AD-755—Advisory Committee Membership Background Information. Form AD-755 may be obtained at http://www.ocio.usda.gov/forms/ocio_forms.html. Nominations must be received in writing by August 20, 2007.

ADDRESSES: Nominations for membership on the RACNAC may be sent via fax to the Director, Ecosystem Management Coordination at 202-205-1012, or via mail to the Director, Ecosystem Management Coordination, USDA Forest Service, 1400 Independence Ave., SW., Mail Stop 1104, Washington, DC 20250.

FOR FURTHER INFORMATION CONTACT: Jessica Call, RACNAC Coordinator, at jessicacall@fs.fed.us or (202) 205-1056, USDA Forest Service, 1400 Independence Avenue, SW., Mailstop 1104, Washington, DC 20250.

SUPPLEMENTARY INFORMATION: The purpose of the RACNAC is to provide advice and recommendations to the Secretary on the management and conservation of roadless areas, including, but not limited to, petitions by the States to the Secretary, or his designee, under the authority of the Administrative Procedure Act (5 U.S.C. 553(e) and 7 CFR 1.28). The RACNAC reviews submitted petitions and provides advice and recommendations to the Secretary. The RACNAC also provides advice and recommendations to the Secretary on any subsequent State-specific rulemakings.

The RACNAC consists of up to 15 members appointed by the Secretary of Agriculture. Officers or employees of the Forest Service may not serve as members of the Committee. The Committee chair shall be elected by the members. The RACNAC shall be composed of a balanced group of representatives of diverse national organizations who can provide insights into the major contemporary issues associated with the conservation and management of inventoried roadless areas. Members operate in a manner designed to establish a consensus of opinion in order to develop recommendations that reflect relevant needs and perspectives. Members seek to reach mutual agreement on a course of action on issues. Collectively, the members should represent a diversity of organizations and perspectives. Members will work together to draft recommendations that are representative of the diverse values and interests represented in the Committee.

Appointment to the RACNAC will be made by the Secretary of Agriculture. Equal opportunity practices will be followed in all appointments to the RACNAC. To ensure the recommendations of the RACNAC have taken into account the needs of the diverse groups served by the Department, membership will include, to the extent practicable, individuals with demonstrated ability to represent minorities, women and persons with disabilities.

Dated: July 13, 2007.
Gilbert L. Smith Jr.,
Deputy Assistant Secretary for Administration.

[FR Doc. E7-14016 Filed 7-19-07; 8:45 am]

BILLING CODE 3410-11-P